ENVIRONMENTAL PROTECTION AGENCY

40 CFR Part 52

[EPA-R04-OAR-2007-0602; FRL-9831-6]

Approval and Promulgation of Implementation Plans for North Carolina: Partial Withdrawal

AGENCY: Environmental Protection Agency (EPA).

ACTION: Final rule; partial withdrawal.

SUMMARY: Due to comments received, EPA is publishing a partial withdrawal of the direct final approval of revisions to the North Carolina State Implementation Plan (SIP). EPA stated in the direct final rule that if EPA received adverse comments by June 17, 2013, the rule would be withdrawn and not take effect.

DATES: This partial withdrawal is effective July 12, 2013.

FOR FURTHER INFORMATION CONTACT: Sara Waterson, Air Planning Branch, U.S. Environmental Protection Agency Region 4, 61 Forsyth Street SW., Atlanta, Georgia 30303-8960. Phone number: (404) 562-9061; Email: waterson.sara@epa.gov.

SUPPLEMENTARY INFORMATION: On May 16, 2013 (78 FR 28747), EPA published a direct final rulemaking to approve a portion of North Carolina's February 3, 2010, SIP submission that updates the North Carolina SIP to incorporate EPA's current national ambient air quality standards (NAAQS) for ozone, lead, and particulate matter (PM). The SIP submission contains amendments to North Carolina Rules 15A NCAC 02D .0405, .0408, .0409, and .0410 reflecting EPA's current NAAQS for the aforementioned criteria pollutants. On May 16, 2013, EPA also published an accompanying proposed rulemaking to approve the SIP revision in the event that EPA received adverse comments on the direct final rulemaking. See 78 FR 28775.

In the direct final rulemaking, EPA explained that the Agency was publishing the rule without prior proposal because the Agency viewed the submittal as a non-controversial SIP amendment and anticipated no adverse comments. Further, EPA explained that the Agency was publishing a separate document in the proposed rules section of the Federal Register to serve as the proposal to approve the SIP revision should an adverse comment be filed. EPA also noted that the rules would be effective on July 15, 2013, without further notice unless the Agency received adverse comment by June 17, 2013. EPA explained that if the Agency received such comments, then EPA would publish a document withdrawing the final rule and informing the public that the rule would not take effect. It was also explained that all public comments received would then be addressed in a subsequent final rule based on the proposed rule, and that EPA would not institute a second comment period on these actions. The public was advised that if no comments were received that the rules would be effective on July 15, 2013, with no further actions on the proposed rule.

On May 23, 2013, EPA received a comment from a single commenter that could be viewed as adverse with regard to the approval action that EPA contemplated for the PM portion of the North Carolina SIP revision. In summary, the commenter noted that the portion of North Carolina's SIP revision related to the PM2.5 NAAQS that was addressed in EPA's May 16, 2013, rulemaking actions did not reflect EPA's December 2012 revision to this standard. The commenter recommended that EPA approve the SIP as submitted and encourage North Carolina to update its SIP to reflect the December 2012 update within a reasonable amount of time. The commenter expressed support for EPA's approval of the portions of the SIP revision that incorporated updates to the other NAAQS subject to the May 16, 2013, rulemakings.

As result of this comment, EPA is withdrawing the direct final action related solely to the PM portion of the North Carolina SIP revision. Specifically, through today's action, EPA is withdrawing the May 16, 2013, direct final approval of North Carolina's SIP submission to update the PM NAAQS via incorporation of amended North Carolina Rules 15A NCAC 02D .0410 “PM2.5 Particulate Matter” and 15A NCAC 02D .0409 “PM10 Particulate Matter” into the SIP.

As indicated in the direct final rulemaking, EPA's May 16, 2013, proposed rulemaking approving North Carolina's SIP revision related to the PM NAAQS is still in effect. The Agency is not opening an additional comment period and will only consider the comments received prior to June 17, 2013, the close of the public comment period. If EPA determines that it is appropriate to finalize the proposed approval of the North Carolina SIP revision related to the PM NAAQS, EPA will publish a final rule which will include a response to the comment received. In the event that EPA determines that it is not appropriate to finalize the proposed approval related to the PM NAAQS, EPA may issue a subsequent proposal with a different course of action.

Today's withdrawal action does not affect EPA's May 16, 2013, direct final action on North Carolina's SIP revision related to the ozone and lead NAAQS. The SIP revision updating the ozone and lead NAAQS are approved and updated North Carolina Rules 15A NCAC 02D .0405 and .0408 are incorporated into the SIP as of the effective date of the May 16, 2013, direct final action (July 15, 2013).

List of Subjects in 40 CFR Part 52

Environmental protection, Air pollution control, Incorporation by reference, Intergovernmental relations, Particulate matter, Reporting and recordkeeping requirements.

Dated: June 28, 2013.
Beverly H. Banister,
Acting Regional Administrator, Region 4.

§ 52.1770 [Amended]

For the reasons set forth in the preamble, EPA withdraws the revision of the entries for .0409 and .0410 in Table 1 of § 52.1770(c) published at 78 FR 28747 (May 16, 2013).

[FR Doc. 2013-16654 Filed 7-11-13; 8:45 am]

BILLING CODE 6560-50-P